DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 74 FR 68630-68631, dated December 28, 2009) is amended to reflect the Order of Succession for the Centers for Disease Control and Prevention.

Section C-C, Order of Succession: Delete in its entirety Section C-C, Order of Succession, and insert the following:

During the absence or disability of the Director, Centers for Disease Control and Prevention (CDC), or in the event of a vacancy in that office, the first official listed below who is available shall act as Director, except that during a planned period of absence, the Director may specify a different order of succession:

1. Principal Deputy Director, CDC.

2. Deputy Director for Infectious Diseases.

3. Associate Director for Science.

4. Deputy Director for Noncommunicable Diseases, Injury and Environmental Health.

Dated: January 28, 2010.
William P. Nichols,
Acting Chief Orating Officer, Centers for Disease Control and Prevention (CDC).

[FR Doc. 2010-2763 Filed 2-9-10; 8:45 am]

BILLING CODE 4160-18-M